DEPARTMENT OF HOMELAND SECURITY

Federal Emergency Management Agency

[Docket ID FEMA-2014-0002 (65F88)]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
California: Orange (FEMA Docket No.: B-1346) | City of Anaheim (13-09-0961P) | The Honorable Tom Tait, Mayor, City of Anaheim, 200 South Anaheim Boulevard, Anaheim, CA 92805 | City Hall, 200 South Anaheim Boulevard, Anaheim, CA 92805 | November 1, 2013 | 060213
Connecticut:
Fairfield (FEMA Docket No.: B-1346) | Town of Stratford (12-01-2581P) | The Honorable John A. Harkins, Mayor, Town of Stratford, 2725 Main Street, Stratford, CT 06615 | Town Hall, 2725 Main Street, Stratford, CT 06615 | August 30, 2013 | 090016
Litchfield (FEMA Docket No.: B-1346) | Town of New Milford (13-01-1227P) | The Honorable Pat Murphy, Mayor, Town of New Milford, 10 Main Street, New Milford, CT 06776 | Town Hall, 10 Main Street, New Milford, CT 06776 | September 11, 2013 | 090049
Idaho:
Custer (FEMA Docket No.: B-1346) | City of Stanley (13-10-0553P) | The Honorable Herbert Mumford, Mayor, City of Stanley, Post Office Box 53, Stanley, ID 83278 | Town Hall, Post Office Box 53, Stanley, ID 83278 | August 23, 2013 | 160054
Custer (FEMA Docket No.: B-1346) | Unincorporated Areas of Custer County (13-10-0553P) | The Honorable Wayne Butts, Chairman, Custer County Commissioners, 801 East Main Street, Challis, ID 83226 | Custer County Courthouse, 801 East Main Street, Challis, ID 83226 | August 23, 2013 | 160211
Illinois:
Cook (FEMA Docket No.: B-1346) | City of Palos Heights (13-05-2883P) | The Honorable Robert Straz, Mayor, City of Palos Heights, 7607 West College Drive, Palos Heights, IL 60463 | City Hall, 7607 West College Drive, Palos Heights, IL 60463 | September 6, 2013 | 170142
Cook (FEMA Docket No.: B-1346) | Unincorporated Areas of Cook County (13-05-3224P) | The Honorable Toni Preckwinkle, President, Cook County Board of Commissioners, 118 North Clark Street, Room 537, Chicago, IL 60602 | Cook County Building and Zoning Department, 69 West Washington, Suite 2830, Chicago, IL 60602 | September 6, 2013 | 170054
Cook (FEMA Docket No.: B-1346) | Village of Matteson (13-05-3224P) | The Honorable Andre B. Ashmore, President, Village of Matteson, 4900 Village Commons, Matteson, IL 60443 | Village Hall, 4900 Village Commons, Matteson, IL 60443 | September 6, 2013 | 170123
Cook (FEMA Docket No.: B-1346) | Village of Olympia Fields (13-05-3224P) | The Honorable Debbie Meyers-Martin, President, Village of Olympia Fields, 20701 Governors Highway, Olympia Fields, IL 60461 | Village Hall, 20040 Governors Highway, Olympia Fields, IL 60461 | September 6, 2013 | 170139
Cook (FEMA Docket No.: B-1346) | Village of Schaumburg (13-05-1146P) | The Honorable Al Larson, President, Village of Schaumburg, 101 Schaumburg Court, Schaumburg, IL 60193 | Robert O. Atcher, Municipal Building Department of Engineering, 101 Schaumburg Court, Schaumburg, IL 60193 | October 14, 2013 | 170158
Peoria (FEMA Docket No.: B-1346) | City of Peoria (12-05-6386P) | The Honorable Jim Ardis, Mayor, City of Peoria, 419 Fulton Street, Room 207, Peoria, IL 61602 | Public Works Department, 3505 North Dries Lane, Peoria, IL 61604 | October 22, 2013 | 170536
Peoria (FEMA Docket No.: B-1346) | City of Peoria (13-05-1142P) | The Honorable Jim Ardis, Mayor, City of Peoria, 419 Fulton Street, Room 207, Peoria, IL 61602 | Public Works Department, 3505 North Dries Lane, Peoria, IL 61604 | September 11, 2013 | 170536
Peoria (FEMA Docket No.: B-1346) | City of Peoria (12-05-6068P) | The Honorable Jim Ardis, Mayor, City of Peoria, 419 Fulton Street, Room 207, Peoria, IL 61602 | Public Works Department, 3505 North Dries Lane, Peoria, IL 61604 | September 11, 2013 | 170536
Will (FEMA Docket No.: B-1346) | Village of Romeoville (12-05-3283P) | The Honorable John Noak, Mayor, Village of Romeoville, 1050 West Romeo Road, Romeoville, IL 60446 | Village Hall, 1050 West Romeo Road, Romeoville, IL 60446 | September 27, 2013 | 170711
Indiana: Hamilton (FEMA Docket No.: B-1346) | City of Westfield (12-05-9297P) | The Honorable Andy Cook, Mayor, City of Westfield, 130 Penn Street, Westfield, IN 46014 | City Hall, 130 Penn Street, Westfield, IN 46014 | August 23, 2013 | 180083
Kansas:
Johnson (FEMA Docket No.: B-1346) | City of Overland Park (13-07-0377P) | The Honorable Carl Gerlach, Mayor, City of Overland Park, 8500 Santa Fe Drive, Overland Park, KS 66212 | City Hall, 8500 Santa Fe Drive, Overland Park, KS 66212 | August 23, 2013 | 200174
Johnson (FEMA Docket No.: B-1346) | City of Overland Park (12-07-3263P) | The Honorable Carl Gerlach, Mayor, City of Overland Park, 8500 Santa Fe Drive, Overland Park, KS 66212 | City Hall, 8500 Santa Fe Drive, Overland Park, KS 66212 | August 30, 2013 | 200174
Maine: York (FEMA Docket No.: B-1346) | City of Biddeford (13-01-0424P) | The Honorable Alan Casavant, Mayor, City of Biddeford, 205 Main Street, Biddeford, ME 04005 | City Hall, 205 Main Street, Biddeford, ME 04005 | September 17, 2013 | 230145
Massachusetts:
Norfolk (FEMA Docket No.: B-1346) | Town of Braintree (13-01-1797P) | The Honorable Joseph C. Sullivan, Mayor, Town of Braintree, 1 John F. Kennedy Memorial Drive, Braintree, MA 02184 | Town Hall, 1 John F. Kennedy Memorial Drive, Braintree, MA 02184 | November 15, 2013 | 250233
Worcester (FEMA Docket No.: B-1346) | Town of Northborough (13-01-0608P) | The Honorable Leslie Ruton, Chair, Board of Selectmen, Town of Northborough, 63 Main Street, Northborough, MA 01532 | Town Hall, 63 Main Street, Northborough, MA 01532 | October 4, 2013 | 250321
Michigan:
Barry (FEMA Docket No.: B-1346) | Township of Yankee Springs (13-05-1644P) | The Honorable Mark Englerth, Supervisor, Township of Yankee Springs, 284 North Briggs Road, Middleville, MI 49333 | Yankee Springs Township Hall, 284 North Briggs Road, Middleville, MI 49333 | September 16, 2013 | 260883
Washtenaw (FEMA Docket No.: B-1346) | City of Ann Arbor (13-05-4220P) | The Honorable John Hieftje, Mayor, City of Ann Arbor, 100 North 5th Avenue, Ann Arbor, MI 48104 | City Hall, 301 East Huron Street, 3rd Floor, Ann Arbor, MI 48107 | October 25, 2013 | 260213
Minnesota:
Clay (FEMA Docket No.: B-1346) | Unincorporated Areas of Clay County (13-05-4543P) | The Honorable Grant Weyland, Chair, Clay County Board of Commissioners, 807 North 11th Street, Moorhead, MN 56560 | Clay County Courthouse, Planning and Zoning Department, 807 North 11th Street, Moorhead, MN 56560 | November 12, 2013 | 275235
Stearns (FEMA Docket No.: B-1346) | Unincorporated Areas of Stearns County (13-05-1353P) | The Honorable Jeff Mergen, Chair, Stearns County Commissioners, 21808 Fellows Road, Richmond, MN 56368 | Stearns County Administration Center, 705 Courthouse Square, St. Cloud, MN 56303 | October 4, 2013 | 270546
Missouri:
Franklin (FEMA Docket No.: B-1346) | City of Washington (13-07-1025P) | The Honorable Sandy Lucy, Mayor, City of Washington, 405 Jefferson Street, Washington, MO 63090 | City Hall, 405 Jefferson Street, Washington, MO 63090 | September 12, 2013 | 290138
Franklin (FEMA Docket No.: B-1346) | City of Washington (12-07-3298P) | The Honorable Sandy Lucy, Mayor, City of Washington, 405 Jefferson Street, Washington, MO 63090 | City Hall, 405 Jefferson Street, Washington, MO 63090 | August 29, 2013 | 290138
Franklin (FEMA Docket No.: B-1346) | City of Washington (12-07-3320P) | The Honorable Sandy Lucy, Mayor, City of Washington, 405 Jefferson Street, Washington, MO 63090 | City Hall, 405 Jefferson Street, Washington, MO 63090 | August 26, 2013 | 290138
Nebraska: Madison (FEMA Docket No.: B-1346) | City of Norfolk (12-07-3110P) | The Honorable Sue Fuchtman, Mayor, City of Norfolk, 309 North 5th Street, Norfolk, NE 68701 | Planning and Zoning Department, 701 Koenigstein Avenue, Norfolk, NE 68701 | August 29, 2013 | 310147
Ohio:
Cuyahoga (FEMA Docket No.: B-1346) | City of Highland Heights (13-05-0770P) | The Honorable Scott Coleman, Mayor, City of Highland Heights, 5827 Highland Road, Highland Heights, OH 44143 | City Hall, 5827 Highland Road, Highland Heights, OH 44143 | October 4, 2013 | 390110
Franklin (FEMA Docket No.: B-1346) | City of Westerville (13-05-3808P) | The Honorable Kathy Cocuzzi, Mayor, City of Westerville, 21 South Street, Westerville, OH 43081 | Planning and Zoning Department, 64 East Walnut Street, Westerville, OH 43081 | October 25, 2013 | 390179
Hamilton (FEMA Docket No.: B-1346) | City of Cincinnati (13-05-0281P) | The Honorable Mark Mallory, Mayor, City of Cincinnati, 801 Plum Street, Suite 150, Cincinnati, OH 45202 | City Hall, 801 Plum Street, Cincinnati, OH 45202 | September 20, 2013 | 390210
Hamilton (FEMA Docket No.: B-1346) | Unincorporated Areas of Hamilton County (13-05-0281P) | The Honorable Greg Hartmann, President, Hamilton County Board of Commissioners, 138 East Court Street, Room 603, Cincinnati, OH 45202 | Hamilton County Administration Building, Department of Public Works, 138 East Court Street, Room 800, Cincinnati, OH 45202 | September 20, 2013 | 390204
Summit (FEMA Docket No.: B-1346) | City of Hudson (12-05-9936P) | The Honorable William A. Currin, Mayor, City of Hudson, 115 Executive Parkway, Suite 400, Hudson, OH 44236 | City Hall, 115 Executive Parkway, Suite 400, Hudson, OH 44236 | October 31, 2013 | 390660
Summit (FEMA Docket No.: B-1346) | City of Hudson (12-05-9938P) | The Honorable William A. Currin, Mayor, City of Hudson, 115 Executive Parkway, Suite 400, Hudson, OH 44236 | City Hall, 115 Executive Parkway, Suite 400, Hudson, OH 44236 | November 4, 2013 | 390660
Summit (FEMA Docket No.: B-1346) | Village of Boston Heights (12-05-9936P) | The Honorable William Goncy, Mayor, Village of Boston Heights, 45 East Boston Mills Road, Hudson, OH 44236 | Village Hall, 45 East Boston Mills Road, Hudson, OH 44236 | October 31, 2013 | 390749
Oregon:
Jackson (FEMA Docket No.: B-1346) | Unincorporated Areas of Jackson County (13-10-0532P) | The Honorable Don Skundrick, Chair, Jackson County Board of Commissioners, 10 South Oakdale Avenue, Room 214, Medford, OR 97501 | Jackson County Courthouse, Roads, Parks and Planning, 10 South Oakdale Avenue, Medford, OR 97501 | October 30, 2013 | 415589
Marion (FEMA Docket No.: B-1346) | City of Salem (13-10-0791P) | The Honorable Anna M. Peterson, Mayor, City of Salem, 555 Liberty Street Southeast, Room 220, Salem, OR 97301 | City Hall, Public Works Department, 555 Liberty Street Southeast, Room 325, Salem, OR 97301 | November 15, 2013 | 410167
Umatilla (FEMA Docket No.: B-1346) | City of Milton-Freewater (12-10-1210P) | The Honorable Lewis Key, Mayor, City of Milton-Freewater, 722 South Main Street, Milton-Freewater, OR 97862 | City Hall, Planning Department, 722 South Main Street, Milton-Freewater, OR 97862 | September 20, 2013 | 410210
Umatilla (FEMA Docket No.: B-1346) | Unincorporated Areas of Umatilla County (12-10-1210P) | The Honorable Larry Givens, Chairman, Umatilla County Board of Commissioners, 216 Southeast 4th Street, Pendleton, OR 97801 | Umatilla County Courthouse, Planning Department, 216 Southeast 4th Street, Pendleton, OR 97801 | September 20, 2013 | 410204
Pennsylvania: Lebanon (FEMA Docket No.: B-1346) | Township of Jackson (13-03-0866P) | The Honorable Dean O. Moyer, Vice Chairman, Jackson Township Board of Supervisors, 217 West Jackson Avenue, Myerstown, PA 17067 | Jackson Township Municipal Building, 60 North Ramona Road, Myerstown, PA 17067 | November 14, 2013 | 421805
Rhode Island:
Providence (FEMA Docket No.: B-1346) | City of Cranston (12-01-1131P) | The Honorable Allan W. Fung, 869 Park Avenue, Cranston, RI 02910 | City Hall, 869 Park Avenue, Cranston, RI 02910 | September 27, 2013 | 445396
Providence (FEMA Docket No.: B-1346) | City of Providence (12-01-1131P) | The Honorable Angel Taveras, Mayor, City of Providence, 25 Dorrance Street, Providence, RI 02903 | City Hall, 25 Dorrance Street, Providence, RI 02903 | September 27, 2013 | 445406
Providence (FEMA Docket No.: B-1346) | Town of Johnston (12-01-1131P) | The Honorable Joseph M. Polisena, Mayor, Town of Johnston, 1385 Hartford Avenue, Johnston, RI 02919 | Town Hall, Department of Building Operations, 1385 Hartford Avenue, Johnston, RI 02919 | September 27, 2013 | 440018
Wisconsin:
Brown (FEMA Docket No.: B-1346) | Unincorporated Areas of Brown County (13-05-1356P) | The Honorable Patrick Moynihan, Jr., Chair, Brown County Board of Commissioners, 305 East Walnut Street, Green Bay, WI 54305 | Brown County Courthouse Zoning Office, 305 East Walnut Street, Green Bay, WI 54305 | October 7, 2013 | 550020
Outagamie (FEMA Docket No.: B-1346) | City of Appleton (12-05-6032P) | The Honorable Timothy Hanna, Mayor, City of Appleton, 100 North Appleton Street, Appleton, WI 54911 | City Hall, 100 North Appleton Street, Appleton, WI 54911 | August 23, 2013 | 555542
Outagamie (FEMA Docket No.: B-1346) | Unincorporated Areas of Outagamie County (12-05-6032P) | The Honorable Thomas M. Nelson, County Executive, Outagamie County, 410 South Walnut Street, Appleton, WI 54911 | Outagamie County Building, 410 South Walnut Street, Appleton, WI 54911 | August 23, 2013 | 550302
Ozaukee (FEMA Docket No.: B-1346) | Village of Thiensville (12-05-9757P) | The Honorable Van Mobley, President, Village of Thiensville, 250 Elm Street, Thiensville, WI 53092 | Village Hall, 250 Elm Street, Thiensville, WI 53092 | October 18, 2013 | 550318

(Catalog of Federal Domestic Assistance No. 97.022, “Flood Insurance.”)

Dated: May 13, 2014.
Roy E. Wright,
Deputy Associate Administrator for Mitigation, Department of Homeland Security, Federal Emergency Management Agency.

[FR Doc. 2014-13619 Filed 6-10-14; 8:45 am]

BILLING CODE 9110-12-P